DEPARTMENT OF DEFENSE

Office of the Secretary

[Docket ID: DoD-2012-OS-0094]

Privacy Act of 1974; System of Records

AGENCY: Defense Information Systems Agency, DoD.

ACTION: Notice to delete five Systems of Records.

SUMMARY: The Defense Information Systems Agency is deleting five systems of records notices from its existing inventory of record systems subject to the Privacy Act of 1974 (5 U.S.C. 552a), as amended.

DATES: This proposed action will be effective on October 25, 2012 unless comments are received which result in a contrary determination. Comments will be accepted on or before October 24, 2012.

ADDRESSES: You may submit comments, identified by docket number and title, by any of the following methods:

* Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Jeanette Weathers-Jenkins, DISA Privacy Officer, Defense Information Systems Agency (DISA), Chief Information Office (CIO), 6916 Cooper Ave., Ft. Meade, MD 20755-7901, or by telephone at (301) 225-8158.

SUPPLEMENTARY INFORMATION: The Defense Information Systems Agency systems of records notices subject to the Privacy Act of 1974 (5 U.S.C. 552a), as amended, have been published in the Federal Register and are available from the address in FOR FURTHER INFORMATION CONTACT.

The Defense Information Systems Agency proposes to delete five systems of records from its inventory of record systems subject to the Privacy Act of 1974 (5 U.S.C. 552a), as amended.

The proposed deletions are not within the purview of subsection (r) of the Privacy Act of 1974 (5 U.S.C. 552a), as amended, which requires the submission of a new or altered system report.

Dated: September 18, 2012.
Aaron Siegel,
Alternate OSD Federal Register Liaison Officer, Department of Defense.

Deletions:

K240.05, Identification Badge System (February 22, 1993, 58 FR 10562).

Reason:

The identification badge system no longer retrieves by a personal identifier and all records have met their retention period and therefore, this system can be deleted.

KWHC.04, Military Financial File System (February 22, 1993, 58 FR 10562).

Reason:

Records are no longer collected locally, this system of records is now obsolete. The records are now covered by the Defense Finance and Accounting Service system of records notice, T-7340d, Defense Military Pay Office Input and Reporting System (May 19, 2008, 73 FR 28800), therefore the system can be deleted.

K660.01, 303-41-42 Claims Files, Requests for Waiver of Pay and Allowances (February 22, 1993, 58 FR 10562).

Reason:

These records are now covered by the Defense Finance and Accounting Service system of records notice, T-7206, Non-appropriated Funds Central Payroll System (NAFCPS)(June 24, 2008, 73 FR 35669), therefore the system can be deleted.

K700.15, 603-05 Chronological Journal Files (February 22, 1993, 58 FR 10562).

Reason:

The records retained at DISA have met their retention, and the records are now covered by system of records notice OPM/GOVT-1, General Personnel Records. This system can be deleted.

KPAC.04, Time and Attendance Cards and Labor Distribution Cards (February 22, 1993, 58 FR 10562).

Reason:

These records are now covered by the Defense Finance and Accounting system of records notice T7335a, Automated Time Attendance and Production System (ATAAPS) (February 27, 2007, 72 FR 8698). This system can be deleted.

[FR Doc. 2012-23368 Filed 9-21-12; 8:45 am]

BILLING CODE 5001-06-P